DEPARTMENT OF TRANSPORTATION

Federal Aviation Administration

14 CFR Part 39

[Docket No. FAA-2010-0857; Directorate Identifier 2010-NM-156-AD]

RIN 2120-AA64

Airworthiness Directives; Koito Industries, Ltd., Seats and Seating Systems Approved Under Technical Standard Order (TSO) TSO-C39b, TSO-C39c, or TSO-C127a

AGENCY: Federal Aviation Administration (FAA), DOT.

ACTION: Notice of proposed rulemaking (NPRM).

SUMMARY: We propose to adopt a new airworthiness directive (AD) for certain Koito Industries, Ltd., seats and seating systems approved under TSO-C39b, TSO-C39c, or TSO-C127a. This proposed AD would require determining if affected seats and seating systems and their components are compliant with certain FAA regulations, and removing those seats, seating systems, and their components from the affected fleet that are shown to be unsafe. This proposed AD results from a determination that the affected seats and seating systems may not meet certain flammability and strength criteria. Failure to meet strength criteria could result in injuries to the flightcrew and passengers during emergency landing conditions. In the event of an in-flight or post-emergency landing fire, failure to meet flammability criteria could result in an accelerated propagation of fire. We are proposing this AD to prevent accelerated fires and injuries to the flightcrew and passengers.

DATES: We must receive comments on this proposed AD by November 23, 2010.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Patrick Farina, Aerospace Engineer, Cabin Safety Branch, ANM-150L, FAA, Los Angeles Aircraft Certification Office (ACO), 3960 Paramount Boulevard, Lakewood, California 90712-4137; telephone (562) 627-5344; fax (562) 627-5210.

SUPPLEMENTARY INFORMATION:

Comments Invited

We invite you to send any written relevant data, views, or arguments about this proposed AD. Send your comments to an address listed under the ADDRESSES section. Include “Docket No. FAA-2010-0857; Directorate Identifier 2010-NM-156-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

In January 2009, in accordance with the FAA's bilateral agreement with Japan Civil Aviation Bureau (JCAB), the JCAB contacted us and advised of non-compliance issues with the Koito seats. We were later advised that the JCAB had been notified of the issues by a whistleblower who reported discrepancies between materials used in production seats and the material of test articles used for showing compliance to flammability requirements. The falsification of certification records, which violates section 21.2 of the Federal Regulations (14 CFR 21.2), was first determined to result in possible non-compliance with the flammability requirements of § 25.853 of the Federal Aviation Regulations (14 CFR 25.853). At that time, we evaluated whether the disclosed possible non-compliance with the TSO significantly affected compliance with flammability criteria and determined that there was not a safety-of-flight issue, so we did not issue an AD.

In November 2009, the JCAB reviewed the safety of all in-service seats, which prompted Koito Industries to disclose additional discrepancies, including the falsification of static, dynamic, and flammability testing on delivered seats. Failure to meet strength criteria could result in injuries to the flightcrew and passengers during emergency landing conditions. In the event of an in-flight or post-emergency landing fire, failure to meet flammability criteria could result in an accelerated propagation of fire.

In December 2009, the JCAB and the FAA concluded that all TSO approvals for Koito Industries, Ltd., must be assumed to be non-compliant to the TSO and, by extension, to the regulations. Therefore, all such seats have potential unsafe conditions.

Approval Basis for TSO Seats

The static, dynamic, and flammability testing requirements include sections 25.561, 25.562, and 25.853 and Appendix F of the Federal Aviation Regulations:

• Section 25.561 contains required static loads for emergency landing conditions. Amendment 25-64, effective June 16, 1988, increased the static strength requirements in certain load cases.

• Section 25.562, which was created by Amendment 25-64, added dynamic testing requirements and quantified injury criteria and considerations for egress for the new requirements. These criteria improve the level of safety for airplanes that include this amendment level in the certification basis, while older airplanes are not required to meet these criteria.

The applicable amendment level of these requirements for a seat installation is dependent on the certification basis of the airplane on which the seats are installed. Because this proposed AD is applicable to all affected seats—regardless of the airplane on which they are installed—we use the current amendment levels of these regulations in the required actions of this proposed AD.

We recognize that an aircraft may have a certification basis that does not include 14 CFR 25.562, but has TSO-C127a seats installed. In that case, although the seats are not required to meet 14 CFR 25.562(b)(2) and (c)(7) by the airplane certification basis, they must still comply with the requirements of this proposed AD, which is written against the seats. However, an operator in this situation may request approval of an alternative method of compliance using the airplane certification basis as justification.

Establishing the Level of Safety for the Seats

Amendment 25-64 was based on accident investigation and dedicated research, after we determined that meeting the emergency load conditions in earlier amendment levels did not ensure adequate performance in an actual accident. We developed dynamic testing criteria with increased load factors as compared to the static strength criteria. These new criteria were intended to achieve the type of structural performance that the static strength criteria were meant to provide, but could not ensure.

In addition, other aspects of emergency landing safety were addressed at that time, which resulted in quantified injury criteria (such as implementation of the Head Injury Criterion (HIC)) and considerations for permanent structural deformations that might affect egress. These injury criteria, while a significant improvement in safety, are not as critical as the dynamic structural retention criteria, and will not be applied in this proposed AD because the primary safety function provided by seats and restraint systems is to remain intact in the event of an accident and provide energy management to allow occupant survival. The new injury criteria provide enhancements beyond this primary function. For this proposed AD, the injury criterion to be used is that the seat and seating system must exhibit no sharp edges during the assessment made for head injury protection. However, in order to make sure that assessment is valid, the seats in question must be shown to incorporate any specific design features or characteristics called out by the drawings for the purposes of reducing head injury.

Section 25.853 of the Federal Aviation Regulations (14 CFR 25.853) contains fire protection requirements for compartment interiors, and specifies which test criteria in Appendix F of 14 CFR part 25 must be met. With respect to flammability, the most significant safety element of the seat is the cushion/upholstery system. In 1984, we adopted new standards for seat cushion fire resistance in Amendment 25-59, dated October 26, 1984, by adding a new part II to Appendix F of 14 CFR part 25. These requirements were mandated to be retrofitted on the existing fleet. Since that time, the relevant performance standards for seats and seat cushions have been modified to incorporate this requirement as well.

While evidence indicates that many parts other than the cushion/upholstery system on the affected Koito seats and seating systems may not meet the Bunsen burner test requirements of part I in Appendix F of 14 CFR part 25, we consider that these non-compliances are not unsafe. The fire threat posed by these parts is of a lower order (i.e., they are smaller and spread apart on the seat), and the materials are typical aircraft materials with performance in a fire that is predictable based on past tests and usage.

Unsafe Condition

We have determined that falsification of the various tests for the TSO could result in the following unsafe conditions during emergency landing conditions and in the event of an in-flight or post-emergency landing fire:

• Static failure (non-compliance with 14 CFR 25.561): Broken components may cause sharp edges and become injurious to the occupant, or fail to retain the occupant, when seats and seating systems do not comply with this regulation.

• Dynamic failure (non-compliance with 14 CFR 25.562): Leg injuries, lumbar/spinal injury, head injury, seat structure yielding leading to occupant entrapment, and failure to retain the occupant may occur when seats and seating systems do not comply with this regulation.

• Fire protection/flammability (non-compliance with 14 CFR 25.853): In-flight and post-emergency landing fires may be accelerated when seat materials do not comply with this regulation.

FAA's Determination and Requirements of This Proposed AD

We are proposing this AD because we evaluated all relevant information and determined the unsafe condition described previously is likely to exist or develop in other products of the same type design. This proposed AD would require determining if affected Koito Industries, Ltd., seats and seating systems, approved under TSO-C39b, TSO-C39c, or TSO-C127a, are compliant with specific FAA regulations containing flammability, static strength, and dynamic strength criteria. This proposed AD would also require removing seats and components that are shown to be unsafe.

Table—Summary of Proposed Actions and Requirements
Action & compliance time | Regulation & safety requirement: Structure | Regulation & safety requirement: Flammability (See footnote 2) | Regulation & safety requirement: Injury (See footnote 3)
May remain in service | Meets 14 CFR 25.562(b)(2) and (c)(7), Amendment level 25-64 | Meets 14 CFR 25.853(c), Amendment level 25-116 | No sharp edges.
Replace within 6 years | Meets 14 CFR 25.561(b)(3)(ii) and (iii), Amendment level 25-64 | Meets 14 CFR 25.853(c), Amendment level 25-116 | No sharp edges.
Replace within 2 or 3 years (See Footnote 1) | Does not meet 14 CFR 25.561 | Does not meet 14 CFR 25.853(c) | Has sharp edges (See Footnote 4).
Footnotes:
1. Seats not meeting the criteria of 14 CFR 25.561 or seats exhibiting sharp edges must be replaced within 2 years; seat cushions not meeting the criteria of 14 CFR 25.853(c) must be replaced within 3 years.
2. Seat cushions replaced to meet 14 CFR 25.853(c) should have consistent lumbar load properties with cushions shown to meet the lumbar criteria. Otherwise, a lumbar load test is required.
3. Predicated on design philosophy being maintained for safety critical parts.
4. Sharp edges would have been produced in the original tests, or in the tests required to meet this AD.

The Role of the Koito Tests Performed Under the Supervision of JCAB

Once the JCAB was aware of the fraudulent behavior, they began a process to re-qualify all of the suspect seat designs. In doing so, they reviewed the detailed designs and grouped them according to similarities that would enable tests of one model to substantiate a similar model. This process involved critical-case determinations and a survey of the designs of the seats in service. To address the JCAB orders, Koito produced new seats and seating systems per the production drawings and performed all the required certification tests on them. The results of these tests are intended to gain an understanding of the state of the fleet and prioritize remedial actions, as necessary.

However, the results of these tests may not be entirely usable. While it is very likely that any tests that fail the requirement on the newly produced seats would also fail on seats in service, the reverse may not be true. Due to the falsification of records and drawing control issues, seats in service might not conform to their production drawings. Thus, successful tests of a newly produced seat cannot automatically be used to support seats in service unless the relevant detail design parameters can be verified as consistent between the two. If an operator (or an airframe manufacturer on behalf of an operator) can show that the seats in their fleet match the seat tested to support the JCAB investigation, then those data could be used to show compliance with this proposed AD. Each situation will be handled on a case by case basis.

The Role of the Airframe Manufacturers (Airbus and Boeing) in Helping Airlines Establish the Status of Their Seats

While this proposed AD is applicable to operators of airplanes with the affected seats installed, two airframe manufacturers involved, Airbus and Boeing, may be in a position to assist in complying with the requirements of the proposed AD. This is because many of the seat models affected are similar among different operators, and data gathered to support one seat model may also be used to support other models. Boeing and Airbus have information on which models are similar to each other, and should be able to assist operators in sharing information so that no more than one operator would conduct what amounts to the same tests. However, for this to work, both the airlines and the manufacturers must cooperate and share information. Based on preliminary discussions, we understand that the companies involved do intend to cooperate in order to minimize costs. In fact, much of the grouping of similar seats has already been accomplished by the JCAB in their efforts to ascertain the status of the various designs. This should simplify the process of identifying the models that must be tested.

Data the FAA Will Accept To Demonstrate Compliance With the Proposed AD

Compliance with this proposed AD would require data to support three types of assessments:

• Structural performance;

• Flammability; and

• Injury prevention.

For the structural performance requirements, test data will be necessary. These data should be generated under an approved test plan and would require oversight of an airworthiness authority (or delegated agent). Tests conducted to support Koito Technical Standard Order Authorization (TSOA) are not acceptable. As noted above, tests conducted as part of the JCAB investigation may be acceptable if the conformity of the seats in service can be verified. Otherwise, new data are needed.

Similarly, for the flammability data, we will require that tests are conducted under an approved test plan or with the oversight of an aviation authority. We are aware of past Koito burner testing conducted at test facilities that were not done in accordance with FAA-approved test methods. Data generated to support the JCAB's investigation must be done in accordance with FAA-approved test methods. In this case, the simplest solution for an operator may be to acquire new cushions. However, if operators choose to try and substantiate their cushions, they might need to fabricate test samples using actual cushions. Since actual cushions and test cushions are of different shapes and sizes, several production cushions will likely be needed to make one test sample set. Also, since upholstery is one area of customization between airlines, it is unlikely that one operator's data can support another. In this case, an operator should consult with the FAA in making test samples so that valid results are produced.

For injury criteria, we will accept photographic evidence from the Koito TSO tests to determine whether there are any sharp edges (this would require that the tests in question are shown to be valid). We will accept data from any of the tests performed to meet the other requirements of this proposed AD.

Limitations on Seats Found Not To Be Fully Compliant, but Are Safe to Remain in Service

Because this proposed AD will not require full compliance with every applicable regulation, seats on which the requirements of this proposed AD are completed successfully and are permitted to remain in service are limited in how they can be used. That is, unless they are shown to fully comply with the regulatory requirements, this proposed AD would restrict the installation of such seats and would require specific marking. These seats can be used as a direct spare for the same part number seat. However, any other use of such seats would be considered a new installation approval and would be required to comply with all regulations. Thus, seats not meeting all regulations could not be installed except as noted above, and if removed from an approved arrangement, would have to be destroyed or rendered unusable in some other manner acceptable to the FAA.

In addition, if these seats are re-installed, they would have to be marked in accordance with paragraph (g) of this AD so that their status is known to any person who inspects them.

Replacement Components

Wear-out component replacement parts such as food trays, arm rest covers, and non-structural members may be manufactured and installed on seats affected by this proposed AD until the compliance time specified in this proposed AD. These parts must comply with flammability and injury prevention requirements. Parts produced under 14 CFR part 43, parts manufacturer approval (PMA) through licensing agreement, or PMA through identicality that could be based on fraudulent data would require an assessment of their compliance.

Costs of Compliance

We estimate that this proposed AD would affect 40,365 passenger seats installed on airplanes in the U.S. fleet. There are 278 airplanes of U.S. registry. The average labor rate is $85 per work-hour.

The estimated cost to determine if the affected seats and seating systems and their components are in compliance (i.e., estimate the cost of static, dynamic and flammability testing, labor) is approximately $100,000 for the U.S. fleet. The estimated cost of the consumed article such as the seat row and materials consumed for flammability testing is approximately $490,000 for the U.S. fleet. The estimated cost to remove affected seats and seating systems and their components is approximately $285,000 for the U.S. fleet (this estimate assumes that the removal of all seats and seating systems in the fleet). The total estimated cost of this proposed AD for the U.S. fleet is $875,000.

Operators may need to replace only certain components. It is not feasible to include the cost of individual components in this proposed AD because we have no way of determining which components may need replacement.

Operators may need to replace the affected seat with a new seat. The following table provides the estimated costs for U.S. operators to replace the different types of seats. We have no way of determining how many seats may need to be replaced after testing is done to determine if the seats are in compliance. Certain operators may need to replace any type of seat that are generalized by description and estimated per seat cost in the following table.

Table—Seat Replacement Cost Estimates
Seat style/class | Aircraft style, foot rest, and recline mechanism | Cost per passenger seat
Economy | Narrow/Wide Body; Mechanical | $2,300
First, Business | Narrow Body; Mechanical | $7,500
Business | Wide Body; Mechanical | $10,000
Business | Wide Body; Electrical | $25,000 to $35,000
First | Wide Body; Lay flat single place, Electrical | $75,000 to $150,000

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866,

2. Is not a “significant rule” under the DOT Regulatory Policies and Procedures (44 FR 11034, February 26, 1979), and

3. Will not have a significant economic impact, positive or negative, on a substantial number of small entities under the criteria of the Regulatory Flexibility Act.

You can find our regulatory evaluation and the estimated costs of compliance in the AD Docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Koito Industries, Ltd: Docket No. FAA-2010-0857; Directorate Identifier 2010-NM-156-AD.

Comments Due Date

(a) We must receive comments by November 8, 2010.

Affected ADs

(b) None.

Applicability

(c) This AD applies to Koito Industries, Ltd., seats and seating systems having a model number identified in Table 1 of this AD that are approved under technical standard order (TSO) TSO-C39b, TSO-C39c, or TSO-C127a, and installed on, but not limited to, airplanes of the manufacturers identified in Table 2 of this AD, all type certificated models in any category.

Table 1—Seat Models
Model Numbers
AFS-105, AFS-136,
AFS-235, AFS-315,
ARS-183, ARS-189, ARS-190,
ARS-200, ARS-242, ARS-242-TA, ARS-254, ARS-255, ARS-263, ARS-276, ARS-277, ARS-281, ARS-289,
ARS-29, ARS-29-03,
ARS-304, ARS-308, ARS-311, ARS-311-A, ARS-311-B, ARS-336, ARS-339, ARS-341, ARS-347 ARS-352, ARS-354, ARS-357, ARS-360, ARS-384, ARS-385, ARS-392, ARS-397, ARS-398,
ARS-415, ARS-417, ARS-418, ARS-419, ARS-423, ARS-424, ARS-425, ARS-427, ARS-431, ARS-437, ARS-446, ARS-447, ARS-448, ARS-451, ARS-452, ARS-465, ARS-478, ARS-480, ARS-482, ARS-483, ARS-493, ARS-494,
ARS-507, ARS-510, ARS-511, ARS-514, ARS-516, ARS-518, ARS-527, ARS-542, ARS-543, ARS-550, ARS-552, ARS-553, ARS-554, ARS-571, ARS-574, ARS-577, ARS-588, ARS-589, ARS-591, ARS-592, ARS-593, ARS-594, ARS-595, ARS-596, ARS-597, ARS-598, ARS-599,
ARS-600, ARS-601, ARS-604, ARS-605, ARS-607, ARS-610, ARS-611, ARS-613, ARS-615, ARS-616, ARS-617, ARS-620, ARS-626, ARS-627, ARS-629, ARS-636, ARS-641, ARS-642, ARS-643, ARS-644, ARS-646, ARS-647, ARS-649, ARS-651, ARS-652, ARS-657, ARS-658, ARS-659, ARS-667, ARS-668, ARS-669, ARS-670, ARS-671, ARS-672, ARS-673, ARS-674, ARS-694, ARS-697,
ARS-704, ARS-707, ARS-709, ARS-710,
ARS-813, ARS-814, ARS-815, ARS-823, ARS-831, ARS-832, ARS-833, ARS-835, ARS-836, ARS-837, ARS-838, ARS-840, ARS-841, ARS-843, ARS-844, ARS-846, ARS-847, ARS-849, ARS-851, ARS-852, ARS-853, ARS-857, ARS-858, ARS-859, ARS-861, ARS-862, ARS-869,
ASS-197D,
ASS-215,
ASS-30, ASS-30-1,
B-317,
F11M11,
F44A33,
P11B31, P11B33, P11M93,
P21B33, P21B35, P21B73,
P22A23,
P32B73,
P52B41,
P56B63,
PB7-2001,
T-316,
Y11B31, Y11B33, Y11B73, Y15B73,
Y21A23, Y21B73,
Y27B73,
YE1B35,
YG7B35,
YH1B73,
YK2B73.

Table 2—Affected Airplanes
Manufacturer | Product subtype
Airbus | Transport Airplane.
The Boeing Company | Transport Airplane.
McDonnell Douglas Corporation | Transport Airplane.
Mitsubishi Heavy Industries, Ltd. | Transport Airplane.
Fokker Services B.V. | Transport Airplane.

Subject

(d) Air Transport Association (ATA) of America Code 25: Equipment/Furnishings.

Unsafe Condition

(e) This AD results from a determination that the affected seats and seating systems may not meet certain flammability, static strength and dynamic strength criteria. Failure to meet static and dynamic strength criteria could result in injuries to the flightcrew and passengers during emergency landing conditions. In the event of an in-flight or post-emergency landing fire, failure to meet flammability criteria could result in an accelerated fire. The Federal Aviation Administration is issuing this AD to prevent accelerated fires and injuries to the flightcrew and passengers.

Compliance

(f) You are responsible for having the actions required by this AD performed within the compliance times specified, unless the actions have already been done.

Determination of Compliance and Removal

(g) Within 2 years after the effective date of this AD, determine if the seats and seating systems and their components are compliant with FAA regulations, in accordance with a method approved by the Manager, Los Angeles Aircraft Certification Office (ACO), FAA. For a method to be approved, the approval must specifically refer to this AD. Before re-installing any seat or seating system, modify the existing TSO tag by defacing the TSO number and letter of designation, e.g., overstrike the TSO identification with an “X” (such as “TSO-C127a” is defaced to look like “XXXXXXXXXX”), and add a tag that specifies non-compliance to the TSO number and letter designation, this AD number, and removal date if applicable.

Note 1: Determining if the seats and seating systems and their components are compliant may be made by independent re-qualification of the affected TSO article that has thorough control of the design and production process.

Note 2: Components of seats and seating systems include any non-metallic exposed part, assembly, or item. A component can include a seat cushion, recline cable, hook and loop (hook and loop is a generic term for Velcro), leather cover that is glued to seat, head rest, or arm cap.

(1) For Koito Industries, Ltd., seats approved under TSO-C39b or TSO-C39c that are not shown to be compliant with 14 CFR 25.561(b)(3)(ii) and 14 CFR 25.561(b)(3)(iii): Within 2 years after the effective date of this AD, remove the non-compliant seats.

(2) For Koito Industries, Ltd., seating systems approved under TSO-C127a that are not shown to be compliant with either of the regulations specified in paragraphs (g)(2)(i) and (g)(2)(ii) of this AD: Within 2 years after the effective date of this AD, remove the non-compliant seating systems.

(i) 14 CFR 25.561(b)(3)(ii) and 14 CFR 25.561(b)(3)(iii).

(ii) 14 CFR 25.562(b)(2), and 14 CFR 25.562(c)(7).

(3) For Koito Industries, Ltd., seating systems approved under TSO-C127a that are shown to be compliant with 14 CFR 25.561(b)(3)(ii) and 14 CFR 25.561(b)(3)(iii), but are not shown to be compliant with 14 CFR 25.562(b)(2), and 14 CFR 25.562(c)(7): Within 6 years after the effective date of this AD, remove the non-compliant seating systems.

(4) For Koito Industries, Ltd., seats approved under TSO-C39b or TSO-C39c and seating systems approved under TSO-C127a that are shown to exhibit sharp or injurious surfaces in testing conducted to satisfy the original TSO authorization program, or subsequent verification tests in accordance with this AD: Within 2 years after the effective date of this AD, remove the non-compliant seats and seating systems.

(5) For components of Koito Industries, Ltd., seats approved under TSO-C39b or TSO-C39c and components of seating systems approved under TSO-C127a that are not shown to be compliant with 14 CFR 25.853(c): Within 3 years after the effective date of this AD, remove the non-compliant components. If a seat cushion is replaced, the replacement seat cushion must have consistent seat bottom stiffness and seat reference point locations using the guidance found in paragraph 9 of Appendix 3 of FAA Advisory Circular 25.562-1B, dated January 10, 2006.

Parts Installation

(h) As of the effective date of this AD, no person may install any Koito Industries, Ltd., seats and seating systems having any model number identified in Table 1 of this AD that are approved under Technical Standard Order (TSO) TSO-C39b, TSO-C39c, or TSO-C127a on any airplane; and no person may install any component of any affected seat and seating system on any airplane, unless the component is shown to meet the applicable airworthiness requirements; except that a seat, seating system, or component may be re-installed on the airplane from which it was originally removed, provided it is removed from service within the applicable compliance time specified in this AD. Non-compliant seats and seating systems and their components that are removed from service are not eligible for installation on another airplane or by another airline or any other aviation entity.

Alternative Methods of Compliance (AMOCs)

(i)(1) The Manager, Los Angeles Aircraft Certification Office, FAA, has the authority to approve AMOCs for this AD, if requested using the procedures found in 14 CFR 39.19. Send information to ATTN: Patrick Farina, Aerospace Engineer, Cabin Safety Branch, ANM-150L, FAA, Los Angeles Aircraft Certification Office (ACO), 3960 Paramount Boulevard, Lakewood, California 90712-4137; telephone (562) 627-5344; fax (562) 627-5210.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

Issued in Renton, Washington, on September 17, 2010.
Ali Bahrami,
Manager, Transport Airplane Directorate, Aircraft Certification Service.

[FR Doc. 2010-23936 Filed 9-23-10; 8:45 am]

BILLING CODE 4910-13-P